DEPARTMENT OF DEFENSE

Office of the Secretary

Proposed Collection; Comment Request

AGENCY: DoD, Office of the Under Secretary of Defense for Personnel and Readiness, Per Diem Travel and Transportation Allowance Committee.

ACTION: Notice.

SUMMARY: In compliance with section 3506(c)(2)(A) of the Paperwork Reduction Act of 1995, the Office of the Under Secretary of Defense for Personnel and Readiness, Per Diem Travel and Transportation Allowance Committee announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 25, 2005.

ADDRESSES: Written comments and recommendations on the proposed information collection should be sent to the Office of the Under Secretary of Defense for Personnel and Readiness, Per Diem Travel and Transportation Allowance Committee, ATTN: Mr. Stephen Westbrook, Hoffman I, Room 836, 2461 Eisenhower Avenue, Alexandria, VA 22331-1300. Comments may be e-mailed to Mr. Westbrook at stephen.westbrook@us.army.mil.

FOR FURTHER INFORMATION CONTACT: To request more information on this proposed information collection or to obtain a copy of the proposal and associated collection instruments, please write to the above address, or call (703) 325-1420.

Title, Associated Forum, and OMB Number: Medical Physician's Statement for Premium-Class Travel, DD Form X488; OMB Number 0704-TBD.

Needs and Uses: Certification validating the disability or other special medical need for premium-class travel accommodations is required for Department of Defense travelers. The requested information provides medical documentation of a disability or other special medical need(s) that will be evaluated, along with other information, in connection with an individual's request for an upgrade in travel to a premium-class of service (business/first-class) as a reasonable accommodation. The physician will specify the physical and environmental requirements connecting the identified disability or other special medical need(s) and the recommended travel accommodation.

Affected Public: Individuals or households.

Annual Burden Hours: 300.

Number of Respondents: 600.

Responses Per Respondent: 1.

Average Burden Per Response: 30 minutes.

Frequency: On Occasion.

SUPPLEMENTARY INFORMATION:

Summary of Information Collection

The Joint Federal Travel Regulations and the Joint Travel Regulation state that civilian employees and military members or their dependents must use coach-class accommodations for official travel. Exceptions to this policy for the use of other than coach-class accommodations must be approved by the appropriate approval authorities as outlined in the regulations. When the reason for a requested upgrade is medical, a physician's certification is needed to validate the condition and the need for premium class seating. The information the physician provides on this form, along with other information, will assist the approval authorities with determining whether or not to approve the use of other than coach-class accommodations for the traveler.

Dated: February 15, 2005.
Patricia L. Toppings,
Alternate OSD Federal Register, Liaison Officer, Department of Defense.

[FR Doc. 05-3472 Filed 2-23-05; 8:45 am]

BILLING CODE 5001-06-M